ENVIRONMENTAL PROTECTION AGENCY

[FRL-10911-01-OA]

Small Community Advisory Subcommittee Meeting

AGENCY: Environmental Protection Agency (EPA).

ACTION: Notification of public meeting.

SUMMARY: Pursuant to the Federal Advisory Committee Act (FACA), EPA herby provides notice of a meeting for the Local Government Advisory Committee's (LGAC) Small Community Advisory Subcommittee (SCAS) on the date and time described below. This meeting will be open to the public. For information on public attendance and participation, please see the registration information under SUPPLEMENTARY INFORMATION.

DATES: The SCAS will meet virtually May 5th, 2023, from 12 p.m. through 1:15 p.m. Eastern Standard Time.

FOR FURTHER INFORMATION CONTACT: Edlynzia Barnes, Designated Federal Officer (DFO), at Barnes.edlynzia@epa.gov or 773-638-9158.

Information on Accessibility: For information on access or services for individuals requiring accessibility accommodations, please contact Edlynzia Barnes by email at Barnes.edlynzia@epa.gov. To request accommodation, please do so five (5) business days prior to the meeting, to give EPA as much time as possible to process your request.

SUPPLEMENTARY INFORMATION: The SCAS will discuss the PFAS National Drinking Water Proposal Standard and PFAS Risk Communication. An agenda will be posted online (link below) prior to the meeting.

Registration: The meeting will be held virtually through an online audio and video platform. Members of the public who wish to participate should register by contacting the Designated Federal Officer (DFO) at Barnes.edlynzia@epa.gov by April 28, 2023. The agenda and other supportive meeting materials will be available online at https://www.epa.gov/ocir/small-community-advisory-subcommittee-scas and will be emailed to all registered. In the event of cancellation for unforeseen circumstances, please contact the DFO or check the website above for reschedule information.

Edlynzia Barnes,
Designated Federal Officer, U.S. Environmental Protection Agency.

[FR Doc. 2023-08480 Filed 4-20-23; 8:45 am]

BILLING CODE 6560-50-P